UNITED STATES INSTITUTE OF PEACE

Announcement of the Fall 2007 Unsolicited Grant Initiative; Effective October 1, 2007

AGENCY: United States Institute of Peace.

ACTION: Notice.

SUMMARY: The Agency announces its Unsolicited Grant Initiative, which offers support for research, education and training, and the dissemination of information on international peace and conflict resolution. The Unsolicited initiative is open to any project that falls within the Institute's broad mandate of international conflict resolution.

Deadline: October 1, 2007; Application material available on request and at http://www.usip.org/grants.

DATES: Receipt of Application: October 1, 2007. Notification Date: March 31, 2008.

ADDRESSES: For application package: United States Institute of Peace Grant Program, 1200 17th Street, NW., Suite 200, Washington, DC 20036-3011, (202) 429-3842 (phone), (202) 833-1018 (fax), (202) 457-1719 (TTY), e-mail: grants@usip.org.

FOR FURTHER INFORMATION CONTACT: The Grant Program, Unsolicited Grants, Phone (202) 429-3842, E-mail: grants@usip.org.

Dated: June 4, 2007.
Michael Graham,
Vice President for Administration.

[FR Doc. 07-2832 Filed 6-6-07; 8:45 am]

BILLING CODE 6820-AR-M